NATIONAL SCIENCE FOUNDATION

Notice of Intent To Seek Approval To Establish an Information Collection

AGENCY: National Science Foundation.

ACTION: Notice and request for comments.

SUMMARY: The National Science Foundation (NSF) is announcing plans to request approval of this collection. In accordance with the requirement of section 3506(c)(2)(A) of the Paperwork Reduction Act of 1995, we are providing opportunity for public comment on this action. After obtaining and considering public comment, NSF will prepare the submission requesting OMB clearance of this collection for no longer than 3 years.

DATES: Interested persons are invited to send comments regarding the burden or any other aspect of this collection of information requirements by August 26, 2013.

ADDRESSES: Written comments regarding the information collection and requests for copies of the proposed information collection request should be addressed to Suzanne Plimpton, Reports Clearance Officer, National Science Foundation, 4201 Wilson Blvd., Rm. 1265, Arlington, VA 22230, or by email to splimpto@nsf.gov.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

FOR FURTHER INFORMATION CONTACT: Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title: Experimentation with Factual Knowledge of Science Survey Items.

OMB Approval Number: 3145-NEW.

Expiration Date: Not applicable.

Overview of this information collection: The National Science Foundation Act of 1950 as amended (42 U.S.C. 1862) authorizes the National Science foundation to “initiate and support basic scientific research and programs to strengthen scientific research potential and science education programs in the mathematical, physical, medical, biological, social, and other sciences.” The America COMPETES Reauthorization Act of 2010 § 505, codified in the National Science Foundation Act of 1950, as amended, established the National Center for Science and Engineering Statistics (NCSES) within the National Science Foundation. NCSES supports surveys that measure the level of basic factual knowledge of science among the American public and prepares information on this topic for dissemination in Science and Engineering Indicators, a biennial publication of the National Science Board (NSB), NSF's governing body. Survey questions cover topics in biology, chemistry, physics, astronomy, and other sciences. NCSES is proposing to conduct a series of survey-based experiments in which question wording and content are systematically varied in order to test the sensitivity of survey measures of factual knowledge of biological evolution and the origins of the universe to variations in question design. These experiments will be conducted via an Internet survey. Data from these experiments may be used in Science and Engineering Indicators to address the effects of question design on survey estimates of public science knowledge and the relationship between understanding and acceptance of scientific conclusions. Results from this research may also be reported in scholarly research publications.

Expected Respondents: Approximately 3,500 U.S. adults (persons aged 18+) will be responding to the survey.

Estimate of Burden: The Foundation estimates that, on average, 15 minutes per respondent will be required to complete the survey. The annual respondent burden for completing the survey is therefore estimated at 875 hours, based on 3,500 respondents.

Dated: June 20, 2013.
Suzanne H. Plimpton,
Reports Clearance Officer, National Science Foundation.

[FR Doc. 2013-15217 Filed 6-25-13; 8:45 am]

BILLING CODE 7555-01-P